DEPARTMENT OF ENERGY

Federal Energy Regulatory Commission

[Docket Nos. PR08-19-000; PR08-19-001]

Northwest Natural Gas Company; Notice of Offer of Settlement

August 12, 2008.

Take notice that on August 5, 2008, Northwest Natural Gas Company (NW Natural) filed an Offer of Settlement in the above-docketed proceeding. Included in its filing was a request to shorten the period for filing initial and reply comments, in response to the Offer of Settlement. NW Natural requested the initial comments to be due on August 15, 2008 and reply comments to be due on August 19, 2008.

The request is approved. The initial comments are due on August 15, 2008 and reply comments are due on August 19, 2008.

Nathaniel J. Davis, Sr.,
Deputy Secretary.

[FR Doc. E8-19120 Filed 8-18-08; 8:45 am]

BILLING CODE 6717-01-P